OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between January 1, 2011, and January 31, 2011. These notices are published monthly in the Federal Register at http://www.federalregister.gov/. A consolidated listing of all authorities as of June 30 is also published each year. The following Schedules are not codified in the Code of Federal Regulations. These are agency-specific exceptions.

Schedule A

No Schedule A authorities to report during January 2011.

Schedule B

No Schedule B authorities to report during January 2011.

Schedule C

The following Schedule C appointments were approved during January 2011.

Agency name | Organization name | Position title | Authorization No. | Effective date
DEPARTMENT OF AGRICULTURE | Office of the Assistant Secretary for Congressional Relations | Staff Assistant | DA110007 | 1/14/2011
| Office of Communications | Press Secretary | DA110013 | 1/31/2011
DEPARTMENT OF COMMERCE | Office of White House Liaison | Deputy Director, Office of White House Liaison | DC110025 | 1/7/2011
| Office of Business Liaison | Senior Advisor | DC110028 | 1/20/2011
DEPARTMENT OF THE NAVY | Office of the Under Secretary of the Navy | Special Assistant | DN110010 | 1/5/2011
DEPARTMENT OF EDUCATION | Office of Vocational and Adult Education | Confidential Assistant | DB110018 | 1/28/2011
| Office of the Secretary | Confidential Assistant | DB110017 | 1/28/2011
| Office of the Under Secretary | Deputy Director of the White House Initiative on Tribal Colleges and Universities | DB110022 | 1/28/2011
| Office of Planning, Evaluation and Policy Development | Special Assistant | DB110024 | 1/28/2011
DEPARTMENT OF ENERGY | Office of Management | Director, Office of Scheduling and Advance | DE110016 | 1/5/2011
| Office of the Secretary | Special Assistant | DE110023 | 1/6/2011
| Under Secretary for Science | Special Assistant | DE110035 | 1/28/2011
GENERAL SERVICES ADMINISTRATION | Great Lakes Region | Regional Administrator | GS110006 | 1/7/2011
DEPARTMENT OF HEALTH AND HUMAN SERVICES | Office of the Secretary | Special Assistant | DH110022 | 1/20/2011
| Office of the General Counsel | Special Assistant | DH110031 | 1/7/2011
| Office of the Assistant Secretary for Planning and Evaluation | Senior Advisor Center for Faith-Based and Neighborhood Partnerships | DH110033 | 1/20/2011
DEPARTMENT OF HOMELAND SECURITY | Office of the Assistant Secretary for Policy | Director, Homeland Security Advisory Council | DM110056 | 1/27/2011
| Office of the Assistant Secretary for Public Affairs | Press Secretary | DM110060 | 1/27/2011
| Office of the Assistant Secretary for Public Affairs | Assistant Press Secretary | DM110065 | 1/27/2011
| Office of the Assistant Secretary for Public Affairs | Assistant Press Secretary | DM110064 | 1/27/2011
| Office of the Assistant Secretary for Public Affairs | Director of Special Projects | DM110061 | 1/27/2011
DEPARTMENT OF HOUSING AND URBAN DEVELOPMENT | Office of Housing | Special Assistant | DU110012 | 1/6/2011
DEPARTMENT OF THE INTERIOR | Secretary's Immediate Office | Deputy Director, Intergovernmental Affairs | DI110022 | 1/31/2011
DEPARTMENT OF JUSTICE | Office of Legislative Affairs | Attorney Advisor | DJ110034 | 1/26/2011
DEPARTMENT OF LABOR | Office of Congressional and Intergovernmental Affairs | Deputy Director of Intergovernmental Affairs | DL110011 | 1/28/2011
OFFICE OF MANAGEMENT AND BUDGET | Legislative Affairs | Deputy for Legislative Affairs (House) | BO110005 | 1/21/2011
| Office of Information and Regulatory Affairs | Counselor | BO110008 | 1/21/2011
SMALL BUSINESS ADMINISTRATION | Office of the Administrator | Senior Advisor for Intergovernmental Affairs | SB110011 | 1/21/2011
| Office of Congressional and Legislative Affairs | Assistant Administrator for Congressional and Legislative Affairs | SB110012 | 1/21/2011
| Office of the Administrator | Special Assistant and Scheduler | SB110016 | 1/21/2011
| Office of the Administrator | Director of Scheduling and Advance | SB110015 | 1/20/2011
| Office of Capital Access | Deputy Associate Administrator for Capital Access | SB110014 | 1/20/2011
DEPARTMENT OF THE TREASURY | Assistant Secretary for Financial Markets | Senior Advisor | DY110039 | 1/31/2011
| Secretary of the Treasury | Special Assistant | DY110040 | 1/31/2011
| Secretary of the Treasury | Chief of Staff | DY110042 | 1/31/2011
| Assistant Secretary (Public Affairs) | Media Affairs Specialist | DY110043 | 1/31/2011
DEPARTMENT OF VETERANS AFFAIRS | Office of the Secretary and Deputy | Special Assistant | DV110007 | 1/12/2011

Authority: 5 U.S.C. 3301 and 3302; E.O. 10577, 3 CFR 1954-1958 Comp., p. 218.

U.S. Office of Personnel Management.
John Berry,
Director.

[FR Doc. 2011-5519 Filed 3-9-11; 8:45 am]

BILLING CODE 6325-39-P